DEPARTMENT OF HEALTH AND HUMAN SERVICES

National Institutes of Health

Recombinant DNA Advisory Committee; Notice of Meeting

Pursuant to section 10(a) of the Federal Advisory Committee Act, as amended (5 U.S.C. Appendix 2), notice is hereby given of a meeting of the Recombinant DNA Advisory Committee.

The meeting will be open to the public as indicated below, with attendance limited to space available. Individuals who plan to attend and need special assistance, such as sign language interpretation or other reasonable accommodations, should notify the Contact Person listed below in advance of the meeting.

Name of Committee: Recombinant DNA Advisory Committee.

Date: June 28-29, 2000.

Time: June 28-9 a.m. to 5 p.m.; June 29-8:30 a.m. to 5 p.m.

Agenda: The agenda will include a discussion on novel human gene transfer protocol(s), DHHS Initiatives for Human Subjects Protections, continued deliberation on issues involving serious adverse events, review of the findings and recommendations from the Advisory Committee to the Director Working Group on Gene Transfer Studies, discussion of data management activities related to human gene transfer clinical trials, other matters to be considered by the Committee. Additional information is also available at the Officer of Biotechnology Activities' web site: http://www.nih.gov/od/oba/ on the Internet.

Place: National Institutes of Health, Building 31, Conference Room 10, 9000 Rockville Pike, Bethesda, MD 20892.

Contact Person: Amy P. Patterson, Director and Acting Executive Secretary, Officer of Biotechnology Activities, National Institutes of Health, MSC 7010, 6000 Executive Boulevard, Suite 302, Bethesda, MD 20892-7010, 301-496-9838.

OMB's “Mandatory Information Requirements for Federal Assistance Program Announcements” (45 FR 39592, June 11, 1980) requires a statement concerning the official government programs contained in the Catalog of Federal Domestic Assistance. Normally NIH lists in its announcements the number and title of affected individual programs for the guidance of the public. Because the guidance in this notice covers virtually every NIH and Federal research program in which DNA recombinant molecule techniques could be used, it has been determined not to be cost effective or in the public interest to attempt to list these programs. Such a list would likely require several additional pages. In addition, NIH could not be certain that every Federal program would be included as many Federal agencies, as well as private organizations, both national and international, have elected to follow the NIH Guidelines. In lieu of the individual program listing, NIH invites readers to direct questions to the information address above about whether individual programs listed in the Catalog of Federal Domestic Assistance are affected.

Dated: May 31, 2000
LaVerne Stringfield,
Director, Officer of Federal Advisory Committee Policy.

[FR Doc. 00-14342 Filed 6-6-00; 8:45 am]

BILLING CODE 4140-01-M